DEPARTMENT OF COMMERCE

Foreign-Trade Zones Board

[Order No. 1320]

Expansion of Foreign-Trade Zone 40 Cleveland, OH, Area

Pursuant to its authority under the Foreign-Trade Zones Act of June 18, 1934, as amended (19 U.S.C. 81a-81u), the Foreign-Trade Zones Board (the Board) adopts the following Order:

Whereas, the Cleveland-Cuyahoga County Port Authority, grantee of Foreign-Trade Zone 40, submitted an application to the Board for authority to expand FTZ 40 to include a new site (Site 11) in Vermilion (Lorain County), at the Harbour Point Business Park (172 acres), within the Cleveland Customs port of entry area (FTZ Docket 33-2003; filed 6/27/03);

Whereas, notice inviting public comment was given in the Federal Register (68 FR 39896, 7/3/03) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 40 is approved, subject to the Act and the Board's regulations, including section 400.28, and further subject to the Board's standard 2,000-acre activation limit for the overall zone project.

Signed in Washington, DC, this 11th day of March, 2004.
James J. Jochum,
Assistant Secretary of Commerce for Import Administration, Alternate Chairman, Foreign-Trade Zones Board.

[FR Doc. 04-6347 Filed 3-19-04; 8:45 am]

BILLING CODE 3510-DS-P